DEPARTMENT OF ENERGY

Federal Energy Regulatory Commission

[Docket No. AD07-3-006]

Review of Cost Submittals by Other Federal Agencies for Administering Part I of the Federal Power Act; Notice of Technical Conference

March 8, 2007.

In its Order On Rehearing Consolidating Administrative Annual Charges Bill Appeals And Modifying Annual Charges Billing Procedures (109 FERC ¶ 61,040), the Commission set forth an annual deadline for Other Federal Agencies (OFAs) to submit their costs related to Administering Part I of the Federal Power Act. The Commission required the OFAs to submit their costs by December 31st of each fiscal year using the OFA Cost Submission Form. The order also announced that a technical conference would be held for the purpose of reviewing the submitted cost forms and detailed supporting documentation.

At the request of several agencies, the Commission extended the December 31, 2006, deadline to allow agencies to improve their costs submissions. With all cost reports received, the Commission now proceeds with the review process.

The Commission will hold a technical conference for reviewing the submitted OFA costs. The purpose of the conference will be for OFAs and licensees to discuss costs reported in the forms and any other supporting documentation or analyses.

The Conference will be held on March 29, 2007, in Conference Room 3M-2A/B at the Commission's headquarters at 888 First Street, NE., Washington, DC. The conference will begin at 2 p.m. (EST).

The technical conference will also be transcribed. Those interested in obtaining a copy of the transcript immediately for a fee should contact the Ace-Federal Reporters, Inc., at 202-347-3700, or 1-800-336-6646. Two weeks after the post-forum meeting, the transcript will be available for free on the Commission's e-library system. Anyone without access to the Commission's Web site or who has questions about the technical conference should contact Troy Cole at (202) 502-6161 or via e-mail at troy.cole@ferc.gov.

FERC conferences are accessible under section 508 of the Rehabilitation Act of 1973. For accessibility accommodations please send an e-mail to accessibility@ferc.gov or call toll free (866) 208-3372 (voice), (202) 208-8659 (TTY), or send a Fax to 202-208-2106 with the required accommodations.

Philis J. Posey,
Acting Secretary.

[FR Doc. E7-4620 Filed 3-13-07; 8:45 am]

BILLING CODE 6717-01-P